SUSQUEHANNA RIVER BASIN COMMISSION

Notice of Action by the Commission Approving Projects and Certain Other Items

AGENCY: Susquehanna River Basin Commission (SRBC).

ACTION: Notice of action by the Commission approving projects and certain other items.

SUMMARY: Pursuant to its authority under the Susquehanna River Basin Compact, Pub. L. 91-575, 84 Stat. 1509 et seq. (the “Compact”) and its Regulations for Review of Projects, 18 CFR Parts 803, 804 and 805, the SRBC, following a public hearing, approved certain water resources projects and took certain other actions listed below at its meeting held in Camp Hill, Pennsylvania on December 5, 2006.

Opportunity For Review: In accordance with Section 3.10(6) of the Compact and Paragraph (o) of the Federal Reservations to the Compact, all such actions of the SRBC are reviewable in federal district court provided that an action for such review is commenced within 90 days from the effective date of the determination sought to be reviewed. For purposes of judicial review, the effective date for actions identified in this notice shall be the date of publication of this notice.

FOR FURTHER INFORMATION CONTACT: Richard A. Cairo, General Counsel, 717-238-0423, Ext. 306; Fax: 717-238-2436; e-mail: rcairo@srbc.net or Michael G. Brownell, Chief, Water Resources Management, 717-238-0425, Ext. 223; Fax: 717-238-2436; e-mail mbrownell@srbc.net. Further details on the docket actions taken on the projects listed below are also available on SRBC's Web site at http://www.srbc.net.

SUPPLEMENTARY INFORMATION:

List of Approved Projects

1. Albany International—Groundwater withdrawal (30-day averages) of 0.125 mgd from Well 1, 0.125 mgd from Well 2, 0.100 mgd from Well 3, and 0.050 mgd from Well 4, and a total groundwater withdrawal limit of 0.380 mgd, for manufacture of monofilament, Village of Homer, Cortland County, New York.

2. Knight Settlement Sand & Gravel, LLC—Consumptive water use of up to 0.198 mgd, for processing of sand and gravel and concrete production, Town of Bath, Steuben County, New York.

3. United Water PA—Dallas Operation—Groundwater withdrawal (30-day average) of 0.216 mgd from the Gephart Well, and a total system withdrawal limit (30-day average) of 0.740 mgd, for public water supply, Dallas Township, Luzerne County, Pennsylvania.

4. Blue Ridge Trail Golf Club, Inc.—Groundwater withdrawal (30-day averages) of 0.099 mgd from Well 1, 0.096 mgd from Well 2, and 0.086 mgd from Well 3, and a total groundwater withdrawal limit of 0.185 mgd, for golf course irrigation, Dorrance and Rice Townships, Luzerne County, Pennsylvania.

5. Aqua Pennsylvania, Inc,—Well ER-4—Groundwater withdrawal (30-day average) of 0.072 mgd from well er-4, for public water supply, Black Creek and Hazle Townships, Luzerne County, and East Union Township, Schuylkill County, Pennsylvania.

6. Eagle Rock Resort Co.—Wells A and C—Surface water withdrawal of up to 3.068 mgd from an abandoned quarry, and groundwater withdrawal (30-day averages) of 0.144 mgd from Well A and 0.072 mgd of groundwater from Well C, and a consumptive water use of up to 0.675 mgd, for snowmaking and golf course irrigation, Black Creek and Hazle Townships, Luzerne County, and East Union Township, Schuylkill County, Pennsylvania.

7. PPL Montour, LLC—Surface water withdrawal of up to 36.000 mgd, from West Branch Susquehanna River, Delaware Township, Northumberland County, Pennsylvania, and consumptive water use of up to 26.200 mgd (peak day) for power plant operation and flue gas desulfurization at the Montour Steam Electric Station, and for the ancillary production of commercial wallboard, Derry Township, Montour County, Pennsylvania.

8. Sunnyside Ethanol, LLC—Surface water withdrawal of up to 1.980 mgd, from West Branch Susquehanna River, and a consumptive water use of up to 1.600 mgd, for manufacture of fuel grade ethanol and carbon dioxide, Curwensville Borough, Clearfield County, Pennsylvania.

9. Country Club of Harrisburg—Surface water withdrawal of up to 0.382 mgd, when available, from Fishing Creek, and a consumptive water use of up to 0.382 mgd, for golf course irrigation, Middle Paxton Township, Dauphin County, Pennsylvania.

10. Country Club of Harrisburg—Groundwater withdrawal (30-day averages) of 0.162 mgd from Well 1, when available, and 0.043 mgd from Well 2, for golf course irrigation, Middle Paxton Township, Dauphin County, Pennsylvania.

11. Middlesex Township Municipal Authority—Groundwater Withdrawal (30-Day Average) of 1.440 mgd from Well 1, for Public Water Supply, Middlesex Township, Cumberland County, Pennsylvania.

12. New Morgan Landfill Company, Inc., dba Conestoga Landfill—Consumptive water use of up to 0.085 mgd, for landfill operations, Robeson and Caernarvon Townships, Berks County, Pennsylvania.

13. Morgantown Properties, LP—Withdrawal of up to 0.288 mgd from Mill Pond Reservoir, for public water supply, and consumptive water use through an out-of-basin diversion of up to 0.040 mgd, for water supply to the Robeson Woods and Joanna Furnace Developments, Berks County, Pennsylvania, and an into-basin diversion of up to 0.040 mgd of wastewater, from the Robeson Woods and Joanna Furnace Developments, Berks County, Pennsylvania.

14. Manheim Township—Groundwater withdrawal (30-day averages) of 0.120 mgd from the Foundation Well and 0.210 mgd from Golf Course Well, and consumptive water use of up to 0.330 mgd, for irrigation of a golf course and ancillary recreational areas, Manheim Township, Lancaster County, Pennsylvania.

15. Lancaster County Solid Waste Management Authority—Frey Farm and Creswell Landfills—Consumptive water use of up to 0.065 mgd for landfill operations, and a total groundwater withdrawal (30-day average) of 0.880 mgd, for leachate collection and treatment, Manor Township, Lancaster County, Pennsylvania.

16. Exelon Generation Co., LLC-Peach Bottom Atomic Power Station—Surface water withdrawal of up to 2,363.620 mgd, from Conowingo Reservoir, Drumore Township, Lancaster County, Pennsylvania, and consumptive water use of up to 32.490 mgd (Peak Day) for power plant operation at the Peach Bottom Atomic Power Station, Drumore Township, Lancaster County, and Peach Bottom Township, York County, Pennsylvania.

17. Town of Perryville—Withdrawal of up to 1.000 mgd from the Susquehanna River, and consumptive water use through an out-of-basin diversion of up to 1.000 mgd, for water supply to the Town of Perryville, Cecil County, Maryland.

18. City of Baltimore Department of Public Works—Surface water withdrawal of up to 0.360 mgd, from the Susquehanna River, for filtration plant design studies, Harford County, Maryland.

In other action, the Commission accepted a settlement in lieu of penalty offer from AES Ironwood, L.L.C., of South Lebanon Township, Lebanon Co., Pa.; approved a final rulemaking action published separately in the Federal Register on December 29, 2006 at pages 78569-78593; extended a suspension of its consumptive use regulation to agricultural water users, pending an anticipated resolution of this issue by the member states; and revised its project fee schedule for project review applications.

Dated: January 4, 2007.
Paul O. Swartz,
Executive Director.

[FR Doc. E7-391 Filed 1-12-07; 8:45 am]

BILLING CODE 7040-01-P